DEPARTMENT OF ENERGY

Federal Energy Regulatory Commission

[Docket No. AD06-6-000]

Joint Meeting of the Nuclear Regulatory Commission and the Federal Energy Regulatory Commission; Notice of Joint Meeting of the Nuclear Regulatory Commission and the Federal Energy Regulatory Commission

The Federal Energy Regulatory Commission (FERC) and the Nuclear Regulatory Commission (NRC) will hold a joint meeting on Wednesday, May 28, 2014 at the headquarters of the Nuclear Regulatory Commission, One White Flint North, 11555 Rockville Pike, Rockville, Maryland 20852. The open meeting is expected to begin at 9:00 a.m. and conclude at 10:30 a.m. Eastern Time. Members of the public may attend the open session. This meeting will be followed by a session that is closed pursuant to the attached certification of the Nuclear Regulatory Commission. Commissioners from both agencies are expected to participate.

The format for the joint meeting will consist of discussions between the two sets of Commissioners following presentations by their respective staffs. In addition, representatives of the North American Electric Reliability Corporation (NERC) will attend and participate in this meeting. A copy of the agenda for the open meeting is attached.

A free webcast of this event will be made available through the NRC Web site, at www.nrc.gov. In addition, the event will be transcribed and the transcription will be made available through the NRC Web site approximately three business days after the meeting.

All interested persons are invited. Pre-registration is not required and there is no fee to attend this joint meeting. Questions about the meeting should be directed to Sarah McKinley at sarah.mckinley@ferc.gov or by phone at 202-502-8368.

Dated: May 19, 2014.
Kimberly D. Bose,
Secretary.

Attachment A

CERTIFICATION

I, Margaret M. Doane, General Counsel of the Nuclear Regulatory Commission, hereby Certify, pursuant to 5 U.S.C. 552b(f)(1) and 10 CFR Sec. 9.108(a), that on the basis of information presently available to me, the meeting of the Nuclear Regulatory Commission on the subject of “Joint Meeting with the Federal Energy Regulatory Commission and the Nuclear Regulatory Commission on Grid Reliability” scheduled for May 28, 2014, at One White Flint North, 11555 Rockville Pike, Rockville Maryland may be closed to the public pursuant to 5 U.S.C. 552b(c)(3) and 10 CFR Sec. 9.104(a)(3).

Dated at Rockville, Maryland

This 14th Day of May, 2014.

Margaret M. Doane,

General Counsel.

Attachment B

Title: JOINT MEETING OF THE (FERC) AND THE NUCLEAR REGULATORY COMMISSION (NRC) ON GRID RELIABILITY

Scheduled: May 28, 2014

9:00 a.m. (Public Session)

Duration: Approx. 1 hour and 35 minutes

Location: Commissioners' Conference Room, 1st fl, NRC Headquarters Building, One White Flint North, Rockville, MD

Participants:

FERC Chairman and Commissioners:

Acting Chairman Cheryl A. LaFleur

Commissioner Philip D. Moeller

Commissioner John R. Norris

Commissioner Tony Clark

NRC Chairman and Commissioners:

Chairman Allison M. Macfarlane

Commissioner Kristine L. Svinicki

Commissioner George Apostolakis

Commissioner William D. Magwood, IV

Commissioner William C. Ostendorff

FERC Staff

Arnie Quinn, Director, Division of Economics and Technical Analysis, Office of Energy Policy and Innovation

Bill Allerton, Director, Division of Dam Safety and Inspections, Office of Energy Projects

Barry Kuehnle, Critical Infrastructure Protection Senior Advisor, Office of Energy Infrastructure Security

Mike Peters, Energy Infrastructure & Cyber Security Advisor, Office of Energy Infrastructure Security

North American Electric Reliability Corporation (NERC) Staff

Tom Burgess, Vice President and Director, Reliability Assessment and Performance Analysis

Tim Roxey, Chief Security Officer, Senior Director—Electricity Sector Information Sharing and Analysis Center (ES-ISAC)

NRC Staff

Brian Smith, Acting Deputy Director, Division of Engineering, Office of Nuclear Reactor Regulation

Brian McDermott, Deputy Director, Office of Nuclear Security and Incident Response

Presentations
• Introductions and Opening Statements | 10 mins.
• Grid Reliability, Markets, and Extended Loss of All AC Power | 55 mins.
Mr. Burgess, NERC | 10 mins.*
○ 2014 State of Reliability Report Q&A | 10 mins.
Mr. Quinn, FERC | 5 mins.*
○ Market Dynamics that May Affect the Financial Viability of Nuclear Power Plants Q&A | 10 mins.
Mr. Smith, NRC | 10 mins.*
○ Nuclear Power Plants—License Renewals and Projections of New Units |
○ Extended Loss of All AC Power Mitigation Strategies—Order Implementation and the Scope of the Rulemaking Activity Q&A | 10 mins.
• Dam Safety | 30 mins.
Mr. Allerton, FERC | 5 mins.*
○ MOU between FERC and NRC; Inspections; and Flood Evaluations |
Mr. Smith, NRC | 5 mins.*
Areas of Cooperation with FERC: Inspections, Dams Upstream of Nuclear Power Plants, and Flooding Reevaluations Q&A | 20 mins.
*For presentations only and does not include time for Q & A's

[FR Doc. 2014-12196 Filed 5-27-14; 8:45 am]

BILLING CODE 6717-01-P